DEPARTMENT OF COMMERCE

Economic Development Administration

[Docket No.: 060607156-6203-02]

Solicitation of Applications for the National Technical Assistance Program

AGENCY: Economic Development Administration, Department of Commerce.

ACTION: Notice and request for applications.

SUMMARY: The Economic Development Administration (EDA) is soliciting applications for FY 2006 National Technical Assistance Program funding. EDA's mission is to lead the federal economic development agenda by promoting innovation and competitiveness, preparing American regions for growth and success in the worldwide economy. Through its National Technical Assistance Program, EDA works towards fulfilling its mission by funding research and technical assistance projects to promote competitiveness and innovation in urban and rural regions throughout the United States and its territories. By working in conjunction with its research partners, EDA will help States, local governments, and community-based organizations to achieve their highest economic potential.

DATES: Applications (on Form ED-900A, Application for Investment Assistance) for funding under this notice must be received by the EDA representative listed below under “Addresses” no later than August 30, 2006 at 5 p.m. EDT. Applications received after 5 p.m. EDT on August 30, 2006 will not be considered for funding. By September 29, 2006, EDA expects to notify the applicants selected for investment assistance. The selected applicants should expect to receive funding for their projects within thirty (30) days of EDA's notification of selection.

ADDRESSES: Applications submitted pursuant to this notice may be:

1. E-mailed to William P. Kittredge at wkittredge@eda.doc.gov; or

2. Hand-delivered to William P. Kittredge, Senior Program Analyst, Economic Development Administration, Room 7009, U.S. Department of Commerce, 1401 Constitution Avenue, NW., Washington, DC 20230; or

3. Mailed to William P. Kittredge, Senior Program Analyst, Economic Development Administration, Room 7009, U.S. Department of Commerce, 1401 Constitution Avenue, NW., Washington, DC 20230.

Applicants are encouraged to submit applications by e-mail. Applicants are advised that, due to mail security measures, EDA's receipt of mail sent via the United States Postal Service may be substantially delayed or suspended in delivery. EDA will not accept applications submitted by facsimile.

FOR FURTHER INFORMATION CONTACT: For additional information, please contact William P. Kittredge at (202) 482-5442 or via e-mail at the address listed above.

SUPPLEMENTARY INFORMATION: Electronic Access: The Federal Funding Opportunity (FFO) announcement for this competitive solicitation is available at www.grants.gov and at EDA's Internet website at www.eda.gov. Paper copies of the Form ED-900A, “Application for Investment Assistance” (OMB Control No. 0610-0094), and additional information on EDA and its National Technical Assistance Program may be obtained from EDA's Internet website at www.eda.gov.

Funding Availability: Funds appropriated under the Science, State, Justice, Commerce and Related Agencies Appropriations Act, 2006 (Pub. L. 109-108, 119 Stat. 2290 (2005)) are available for making awards under the National Technical Assistance Program authorized by section 207 of the Public Works and Economic Development Act of 1965 (42 U.S.C. 3147), as amended (PWEDA), and 13 CFR part 306, subpart A. Approximately $500,000 is available, and shall remain available until expended, for funding awards pursuant to this competitive solicitation. This is the third FFO announcement published under this program during FY 2006. The first announcement under National Technical Assistance was published on June 16, 2006 and the second announcement under Research and Evaluation was published on July 18, 2006.

Statutory Authority: The authority for the National Technical Assistance Program is section 207 of PWEDA (42 U.S.C. 3147). You may access EDA's currently effective regulations (codified at 13 CFR Chapter III) and PWEDA on EDA's Internet website at www.eda.gov.

Catalog of Federal Domestic Assistance (CFDA) Number: 11.303, Economic Development-Technical Assistance.

Eligibility Requirement: Pursuant to PWEDA, eligible applicants for and eligible recipients of EDA investment assistance include a District Organization; an Indian Tribe or a consortium of Indian Tribes; a State; a city or other political subdivision of a State, including a special purpose unit of a State or local government engaged in economic or infrastructure development activities, or a consortium of political subdivisions; an institution of higher education or a consortium of institutions of higher education; a public or private non-profit organization or association; a private individual; or a for-profit organization. See section 3 of PWEDA (42 U.S.C. 3122) and 13 CFR 300.3.

Cost Sharing Requirement: Generally, the amount of the EDA grant may not exceed fifty (50) percent of the total cost of the project. Projects may receive an additional amount that shall not exceed thirty (30) percent, based on the relative needs of the region in which the project will be located, as determined by EDA. See section 204(a) of PWEDA (42 U.S.C. 3144) and 13 CFR 301.4(b)(1). Under this competitive solicitation, the Assistant Secretary of Commerce for Economic Development (Assistant Secretary) has the discretion to establish a maximum EDA investment rate of up to one hundred (100) percent where the project (i) merits and is not otherwise feasible without an increase to the EDA investment rate; or (ii) will be of no or only incidental benefit to the recipient. See section 204(c)(3) of PWEDA (42 U.S.C. 3144) and 13 CFR 301.4(b)(4).

While cash contributions are preferred, in-kind contributions, consisting of assumptions of debt or contributions of space, equipment, and services, may provide the non-federal share of the total project cost. See section 204(b) of PWEDA (42 U.S.C. 3144). EDA will fairly evaluate all in-kind contributions, which must be eligible project costs and meet applicable federal cost principles and uniform administrative requirements. Funds from other federal financial assistance awards are considered matching share funds only if authorized by statute that allows such use, which may be determined by EDA's reasonable interpretation of the statute. See 13 CFR 300.3. The applicant must show that the matching share is committed to the project, available as needed and not conditioned or encumbered in any way that precludes its use consistent with the requirements of EDA investment assistance. See 13 CFR 301.5.

Intergovernmental Review: Applications for funding under this competitive solicitation are not subject to the requirements of Executive Order 12372, “Intergovernmental Review of Federal Programs.”

Evaluation and Selection Procedures: To apply for an award under this announcement, an eligible applicant must submit a completed application (Form ED-900A, Application for Investment Assistance) to EDA during the timeframe specified in the “Dates” section of this notice. Applications received after 5 p.m. EDT on August 30, 2006 will be considered non-responsive and will not be considered for funding. By September 29, 2006, EDA expects to notify the applicants selected for investment assistance. Unsuccessful applicants will be notified by postal mail that their applications were not recommended for funding. Applications that do not meet all items required or that exceed the page limitations set forth in this competitive solicitation will be considered non-responsive and will not be considered by the review panel. Applications that meet all the requirements will be evaluated by a review panel comprised of at least three (3) EDA staff members, all of whom will be full-time federal employees.

Evaluation Criteria: The review panel will evaluate the applications and rate and rank them using the following criteria of approximate equal weight:

1. Conformance with EDA's statutory and regulatory requirements, including the extent to which the proposed project satisfies the award requirements set out below and as provided in 13 CFR 306.2:

a. Strengthens the capacity of local, State or national organizations and institutions to undertake and promote effective economic development programs targeted to regions of distress;

b. Benefits distressed regions; and.

c. Demonstrates innovative approaches to stimulate economic development in distressed regions;

2. The degree to which an EDA investment will have strong organizational leadership, relevant project management experience and a significant commitment of human resources talent to ensure the project's successful execution (see 13 CFR 301.8(b));

3. The ability of the applicant to implement the proposed project successfully (see 13 CFR 301.8);

4. The feasibility of the budget presented; and

5. The cost to the Federal government.

Selection Factors: EDA expects to fund the highest ranking applications submitted under this competitive solicitation. The Assistant Secretary is the Selecting Official and will normally follow the recommendation of the review panel. However, the Assistant Secretary may not make any selection, or he may select an application out of rank order for the following reasons: (1) A determination that the application better meets the overall objectives of sections 2 and 207 of PWEDA (42 U.S.C. 3121 and 3147); (2) the applicant's performance under previous awards; or (3) the availability of funding.

The Department of Commerce Pre-Award Notification Requirements for Grants and Cooperative Agreements.

The Department of Commerce Pre-Award Notification Requirements for Grants and Cooperative Agreements, published in the Federal Register on December 30, 2004 (69 FR 78389), are applicable to this competitive solicitation. This notice may be accessed by entering the Federal Register volume and page number provided in the previous sentence at the following Internet website: http://gpoaccess.gov/fr/retrieve.html.

Paperwork Reduction Act.

This request for applications contains a collection of information subject to the requirements of the Paperwork Reduction Act (PRA). The Office of Management and Budget (OMB) has approved the use of the Application for Investment Assistance (Form ED-900A) under control number 0610-0094. The Form ED-900A also incorporates Forms SF-424 (Application for Financial Assistance), SF-424A (Budget—Non-Construction Programs) and SF-424B (Assurances—Non-Construction Programs). Notwithstanding any other provision of law, no person is required to respond to, nor shall any person be subject to a penalty for failure to comply with, a collection of information subject to the requirements of the PRA unless the collection of information displays a currently valid OMB control number.

Executive Order 12866.

This notice has been determined to be not significant for purposes of Executive Order 12866, “Regulatory Planning and Review.”

Executive Order 13132.

It has been determined that this notice does not contain “policies that have Federalism implications,” as that phrase is defined in Executive Order 13132, “Federalism.”

Administrative Procedure Act/Regulatory Flexibility Act.

Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: July 25, 2006.
Benjamin Erulkar,
Deputy Assistant Secretary of Commerce, for Economic Development and Chief Operating Officer.

[FR Doc. E6-12250 Filed 7-28-06; 8:45 am]

BILLING CODE 3510-24-P